DEPARTMENT OF HEALTH AND HUMAN SERVICES

Centers for Disease Control and Prevention

[30Day-05-0572]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 371-5976 or send an e-mail to omb@cdc.gov. Send written comments to CDC Desk Officer, Human Resources and Housing Branch, New Executive Office Building, Room 10235, Washington, DC 20503 or by fax to (202) 395-6974. Written comments should be received within 30 days of this notice.

Proposed Project

CDC and ATSDR Health Message Testing System (0920-0572)—Revision—Office of the Director, Office of Communication (OD/OC), Centers for Disease Control and Prevention (CDC). The revision to this submission is the addition of a request for the program to use Web-enabled panels as an additional data collection tool that can be used for the projects within this clearance. The Centers for Disease Control and Prevention (CDC) protects people's health and safety by preventing and controlling diseases and injuries; promotes healthy living through strong partnerships with local, national and international organizations, and enhances health decisions by providing credible information on critical health issues.

Members of the public and health practitioners at all levels require up-to-date, credible information about health and safety in order to make rational decisions. Such information affects the health and well-being of people across all stages of life by making our food supply safe, identifying harmful behaviors, and improving our environment.

CDC and the Agency for Toxic Substances and Disease Registry (ATSDR) must fulfill their mission and mandate to frequently communicate urgent and sensitive health messages with the general public, members of the public with certain diseases or disabling conditions, and those at a greater risk of exposure to disease or injury causing agents. CDC/ATSDR makes this crucial health information available through many channels including books, periodicals, and monographs; internet Web sites; health and safety guidelines; reports from investigations and emergency responses; public health monitoring and statistics; travel advisories; answers to public inquiries; and health education campaigns.

In addition to serving the public, CDC/ATSDR delivers health information that enables health providers to make critical decisions. For instance, the practicing medical and dental communities and the nation's health care providers are target audiences for numerous official CDC recommendations concerning the diagnosis and treatment of disease, immunization schedules, infection control, and clinical prevention practices. CDC/ATSDR offers technical assistance and training to health professionals as well.

In order to ensure that the public and other key audiences, like health care providers, understand the information, are motivated to take action, and are not offended or react negatively to the messages, it is critical to test messages and materials prior to their production and release. Currently, each CDC program developing health messages is required to submit its message development and testing activities for individual OMB review. Many CDC programs have extremely short deadlines for developing and producing health messages. Some deadlines are imposed by Congress, and others are necessitated by the time-sensitive nature of the work. Many programs cannot accommodate the time required for OMB approval, and therefore skip the message testing step altogether, or resort to testing specific portions of messages with 9 or fewer individuals. The science of health communication does not support these programmatic practices. In fact, these undesirable alternatives weaken CDC/ATSDR position as a research-based public health agency providing credible health information that people can count on and use.

CDC may achieve a greater level of efficacy if it can use four routine health message development and testing methods: (1) Central Location Intercept Interviews (i.e., “shopping mall” interviews); (2) Customer Satisfaction Phone Interviews; (3) Focus Groups; and (4) Web-enabled research. Virtually every Center, Institute, and Office (CIO) at CDC could achieve a higher level of confidence that health messages were understandable and would provoke no unintended consequences if they were empowered to use these methods efficiently. The CDC Office of Communication therefore requests approval for renewal of the Health Message Testing System that will conduct up to 64 message testing activities per year for each of three years. If all 64 testing activities are implemented, the total estimated annualized burden is 3,000 hours.

Annualized Burden Table:

Data collection | Number of activities per year | Number of respondents per activity | Number of responses per respondent | Average burden per response (in hours)
Intercept and touch screen interviews | 64 | 1,600 | 1 | 30/60
Customer Satisfaction Phone Interviews | 64 | 1,200 | 1 | 30/60
Focus Groups | 64 | 1,200 | 1 | 30/60
Web-enabled research | 64 | 2,400 | 1 | 30/60

Dated: February 3, 2005.
Betsey Dunaway,
Acting Reports Clearance Officer, Office of the Chief Science Officer, Centers for Disease Control and Prevention.

[FR Doc. 05-2574 Filed 2-9-05; 8:45 am]

BILLING CODE 4163-18-P